DEPARTMENT OF THE INTERIOR

Bureau of Land Management

[WY-100-1310-DB]

Notice of Intent (NOI) To Prepare an Environmental Impact Statement for the LaBarge Platform Project, Sublette County and Lincoln County, WY

AGENCY: Bureau of Land Management, Interior.

ACTION: Notice of Intent.

SUMMARY: The Bureau of Land Management (BLM) Field Office, Pinedale, WY, intends to prepare an Environmental Impact Statement (EIS) and to solicit public comments pursuant to section 102(2)(C) of the National Environmental Policy Act (NEPA) of 1969 and in response to a proposal filed by EOG Resources, Inc. (EOG) regarding issues and resource information for the proposed LaBarge Platform Project, Sublette County and Lincoln County, Wyoming. The project is primarily a natural gas exploration and development project.

DATES: This notice initiates the public scoping process. The BLM can best use public input if comments and resource information are submitted within 45 days from publication of this notice.

To provide the public with an opportunity to review the proposal and project information, the BLM will host public meetings in Pinedale, LaBarge, Big Piney, and Kemmerer, Wyoming. The BLM will announce the dates, times, and locations for these meetings at least 15 days prior to the event. Announcements will be made by news release to the media, individual letter mailings, and posting on the project, Web site listed below.

http://www.blm.gov/wy/st/en/info/NEPA/pfodocs/labarge_platform.html.

ADDRESSES: You may submit comments on issues and planning criteria related to the LaBarge Platform Project EIS by any of the following methods:

• Web Site: http://www.blm.gov/wy/st/en/info/NEPA/pfodocs/labarge_platform.html.

• E-mail: LaBarge_Platform_WYMail@blm.gov.

• Fax: (307) 367-5329.

• Mail: Bureau of Land Management, Pinedale Field Office, Attn: LaBarge Platform Project Manager, P.O. Box 768, Pinedale, WY 82941.

Documents pertinent to this proposal may be examined at the Pinedale Field Office.

FOR FURTHER INFORMATION CONTACT: For information or to add your name to the project mailing list, contact Lauren McKeever, Project Leader, Telephone 307-367-5300; e-mail lauren_mckeever@blm.gov.

SUPPLEMENTARY INFORMATION: The LaBarge Platform Project is generally located between Townships 26 and 31 North, Ranges 111 through 114 West, 6th Principal Meridian, Sublette, and Lincoln Counties, Wyoming. The project area is located within 3 miles of Big Piney, Wyoming, within 1 mile of La Barge, Wyoming and 60 miles northwest of Rock Springs, Wyoming. The project area covers approximately 218,000 acres of mixed Federal, State, and private lands. The BLM Pinedale Field Office and Rock Springs Field Office manage the Federal lands in the project area. The Pinedale Field Office will serve as the lead office.

The proposed action is in conformance with the Pinedale Resource Management/Final Environmental Impact Statement and Record of Decision (ROD), 2008, and the Green River Resource Management Plan and its ROD, 1997.

The LaBarge Platform Project is located in an area of existing oil and gas development, some of which dates back to the 1920s. The project area is comprised of 70 percent public lands administered by the BLM, 5 percent lands managed by the State of Wyoming and 24 percent private lands. Approximately 74 percent of the subsurface resources are Federal mineral estate. In April 2008, EOG submitted to the BLM a proposal to expand oil and natural gas exploration and development operations that would result in further development and additional wells in the existing LaBarge Platform and East LaBarge fields which have been in production since the 1920s.

The purpose of the proposed project is to explore, extract, and recover oil and natural gas. EOG proposes to develop up to approximately 605 new oil and gas wells from an estimated 455 well pads as infill, exploratory, or step-out wells to all productive formations including but not limited to: Baxter, Frontier, and Mesa Verde. Associated facilities in the proposal include roads, well pads, and gathering pipelines. No additional ancillary facilities are included as part of the proposal nor considered as part of this analysis.

The estimated life-of-project would be about 40-50 years. Depending on the geological characteristics of the target formation, wells would be drilled using a combination of vertical, directional, and horizontal drilling techniques. The proposal calls for a 10-year construction and drilling period.

A number of other operators within or near the EOG project area expect to drill and develop approximately 175 natural gas wells within the reasonably foreseeable future. These possible wells would be analyzed in a separate alternative and addressed in the cumulative effects portion of this EIS document.

During the preparation of the EIS, interim exploration and development will be subject to development guidelines and decisions made in applicable NEPA documents, including but not limited to: Coordinated Activity Plan for the Big Piney/LaBarge Area, and ROD, 1991; Enron Oil & Gas Company East LaBarge Infill Drilling Project Environmental Assessment (EA), Finding of No Significant Impact and Decision Record 1992; the Green River Resource Management Plan and Final EIS and ROD, 1997; and the Pinedale Resource Management Plan/Final EIS and ROD, 2008.

The LaBarge Platform Project area is adjacent to the project area considered in the South Piney Natural Gas Project Draft EIS (2005). The proponent of the South Piney Project has not submitted any revised proposals nor has the BLM been contacted about continuing any further NEPA process. Therefore, the BLM has concluded its NEPA process and no further environmental documents will be prepared for the South Piney Project proposal.

The EIS for the LaBarge Platform Project will analyze the environmental consequences of implementing the proposed action and alternatives to the proposed action, including a No Action alternative. Other alternatives that may be considered in detail include drilling surface densities and pace of development different from those of the proposed action.

Your input is important and will be considered in the environmental analysis process. All comment submittals must include the commenter's name and street address. Comments including the names and addresses of the respondent will be available for public inspection at the above offices during normal business hours, Monday through Friday, except Federal holidays. Before including your address, phone number, e-mail address, or any other personal identifying information in your comment, be advised that your entire comment, including your personal identifying information may be publicly available at any time. While you can ask us in your comment to withhold from public review your personal identifying information, we cannot guarantee that we will be able to do so.

All submissions from organizations or businesses, and from individuals identifying themselves as representatives or officials of organizations or businesses, will be made available for public inspection in their entirety.

Dated: May 22, 2009.
Donald A. Simpson,
State Director.

[FR Doc. E9-18309 Filed 7-31-09; 8:45 am]

BILLING CODE 4310-22-P